NUCLEAR REGULATORY COMMISSION

Sunshine Act Meeting

AGENCY: Nuclear Regulatory Commission.

Dates: Weeks of May 5, 12, 19, 26, June 2, 9, 2003.

Place: Commissioners' Conference Room, 11555 Rockville Pike, Rockville, Maryland.

Status: Public and Closed.

Matters to be Considered:

Week of May 5, 2003

There are no meetings scheduled for the Week of May 5, 2003.

Week of May 12, 2003—Tentative

Wednesday, May 14, 2003

1:30 p.m.—Discussion of Security Issues (Closed—Ex. 1).

Thursday, May 15, 2003

9:30 a.m.—Briefing on Results of Agency Action Review Meeting (Public Meeting) (Contact: Robert Pascarelli, 301-415-1245). Morning session.

12:30 p.m.—Briefing on Results of Agency Action Review Meeting (Public Meeting) (Contact: Robert Pascarelli, 301-415-1245). Afternoon session.

This meeting will be webcast live at the Web address— http://www.nrc.gov.

Week of May 19, 2003—Tentative

There are no meetings scheduled for the Week of May 19, 2003.

Week of May 26, 2003—Tentative

Wednesday, May 28, 2003

9:30 a.m.—Meeting with Advisory Committee on the Medical Uses of Isotopes (ACMUI) (Public Meeting) (Contact: Angela Williamson, 301-415-5030).

This meeting will be webcast live at the Web address— http://www.nrc.gov.

2:45 p.m.—Discussion of Management Issues (Closed—Ex. 2).

Thursday, May 29, 2003

9:30 a.m.—Briefing on Status of Revisions to the Regulatory Framework for Steam Generator Tube Integrity (Public Meeting) (Contact: Louise Lund, 301-415-3248).

This meeting will be webcast live at the Web address— http://www.nrc.gov.

2 p.m.—Briefing on Equal Employment Opportunity Program (Public Meeting) (Contact: Corenthis Kelley, 301-415-7380).

Week of June 2, 2003—Tentative

There are no meetings scheduled for the Week of June 2, 2003.

Week of June 9, 2003—Tentative

Wednesday, June 11, 2003

10:30 a.m.—All Employees Meeting.

1:30 p.m.—All Employees Meeting.

*The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: May 1, 2003.
D.L. Gamberoni,
Technical Coordinator, Office of the Secretary.

[FR Doc. 03-11287 Filed 5-2-03; 11:05 am]

BILLING CODE 7590-01-M